DEPARTMENT OF AGRICULTURE

Forest Service

Cibola National Forest; New Mexico; McKinley County Easement for Forest Roads 191 and 191D

AGENCY: Forest Service, USDA.

ACTION: Notice of intent to prepare an environmental impact statement.

SUMMARY: The Department of Agriculture, Forest Service has initiated the process to prepare an Environmental Impact Statement (EIS) for a road easement issuance to McKinley County for Forest Roads (FRs) 191 and 191D. The proposed action would grant an easement to McKinley County for FRs 191 and 191D and reassign an existing easement (dated December 21, 2001, from David Polich et al.) to the Forest Service across private land within Section 9, T 13 N, R 16 W, NMPM to McKinley County. The granting of the right-of-way allows McKinley County to upgrade the roads and take over their maintenance. The upgrade would make these portions of FR 191 and FR191D, approximately 2.78 miles, all-weather roads.

DATES: Comments concerning the scope of the analysis must be received by 30 days after the publication of the NOI. The draft environmental impact statement is expected November, 2008 and the final environmental impact statement is expected March, 2009.

ADDRESSES: Send written comments to Nancy Rose, Forest Supervisor, Cibola National Forest, 2113 Osuna Road NE, Albuquerque, NM 87113, or fax (505) 346-3901. Copies of the proposed action, project location map, or the Environmental Impact Statement, when available, may be obtained from the Cibola National Forest, 2113 Osuna Road, NE, Albuquerque, NM 87110-1001; or from the Mount Taylor Ranger District Office (Cibola NF), 1800 Lobo Canyon Road, Grants, NM 87020 or electronically from the Forest Service Web site at http://www.fs.fed.us/r3/cibola/projects/nepa_reports.shtml.

FOR FURTHER INFORMATION CONTACT: For further information, mail correspondence to Keith Baker, NEPA Coordinator, Cibola National Forest, 2113 Osuna Road NE, Albuquerque, NM 87113-1001 or phone (505) 346-3820.

SUPPLEMENTARY INFORMATION:

Purpose and Need for Action

There is a need to provide for public safety and adequate access to private inholdings. The desired condition is to have FR191 and FR191D under a County easement. This would allow McKinley County to upgrade FR191D to County “B-2” type road standards, with an aggregate surface in place of a paved surface. An upgrade of this nature would make FR191D an all-weather road but maintain it as a rural road. It would also place these roads under McKinley County jurisdiction, which would be appropriate due the existing and anticipated traffic type and volume from the private landowners who live in the area and use the road. The current road condition limits access for public services, such as school buses and fire and emergency service vehicles to reach these people. An improved, all-weather road would allow safe, year-round access for the people living on private land and provide access for public services and emergency service vehicles.

Proposed Action

The U.S. Forest Service, Cibola National Forest, Mount Taylor Ranger District proposes to grant an easement to McKinley County for access across forest lands and transfer an existing Forest Service easement across private land to the County. The right-of-way would be 2.78 miles long and 66 feet wide, covering approximately 22 acres. About 2.23 miles of the roads are on national forest lands. About one-quarter mile of the easement would be on FR 191 from its intersection with New Mexico State Highway 400 to the intersection of FR191D. The remaining 2.53 miles would be on FR191D from its intersection with FR191 to private land.

Responsible Official

The responsible official is Nancy Rose, Forest Supervisor, Cibola National Forest Supervisor's Office, 2113 Osuna Road NE., Albuquerque, NM 87113-1001.

Nature of Decision To Be Made

The decision to be made is whether to implement the proposed action as described above, to vary the design of the proposed action to meet the purpose and need through some other combination of activities, or to take no action at this time.

Scoping Process

The Council on Environmental Quality (CEQ) emphasizes an early and open process for determining the scope of issues to be addressed and for identifying significant issues related to the proposed action. To meet the intent of the CEQ regulations, the Cibola National Forest will do the following to ensure early and open public involvement: (1) Include the proposed action on the list of projects for annual tribal consultation and address concerns identified during tribal consultation as part of the analysis, (2) submit the proposed action to the public during scoping, and request comments or issues (points of dispute, debate, or disagreement) regarding the potential effects, (3) include the proposal on the Cibola National Forest Schedule of Proposed Actions quarterly report, (4) use comments received to determine significant issues and additional alternatives to address within the analysis, (5) consult with the U.S. Fish and Wildlife Service and the State Historical Preservation Office regarding potential effects to listed species and heritage sites as needed, and (6) prepare and distribute a draft environmental impact statement for a 45-day public comment period. No public meeting is planned.

Preliminary Issues

One preliminary issue has been identified. The project and other actions in the area could affect habitat for the Zuni bluehead sucker, a New Mexico state-endangered fish, which exists downstream from the project area.

Comment Requested

This notice of intent initiates the scoping process which guides the development of the environmental impact statement. Comments should be focused on the nature of the action proposed and should be relevant to the decision under consideration. Comments received from the public will be evaluated for significant issues and used to assist in the development of additional alternatives, if any.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: August 19, 2008.
Nancy Rose,
Forest Supervisor, Cibola National Forest.

[FR Doc. E8-20105 Filed 8-28-08; 8:45 am]

BILLING CODE 3410-11-P